DEPARTMENT OF DEFENSE

Department of the Army; Army Science Board

Notice of Open Meeting

In accordance with section 10(a)(2) of the Federal Advisory Committee Act (P.L. 92-463), announcement is made of the following Study Group Meeting.

Name of Study Group: Asymmetric Study Group.

Date of Meeting: 08 October 2001.

Time of Meeting: 0800-1630.

Place of Meeting: Presidential Towers, 2511 Jefferson Davis Highway, 10th Floor Conference Room, Arlington, VA 22202, Phone: (703) 604-7474, FAX: (703) 604-7699.

Agenda: The Army Science Board Study Group on “Asymmetric Threats to Land Based Operations (2015-2020)” will conduct a meeting to review the current gathered information. These meetings will be open to the public. Any interested person may attend, appear before, or file statements with the committee at the time and in the manner permitted by the committee. For further information, please contact Ms. Betty LaFavers, Office of the Assistant Secretary of the Army (Acquisition, Logistics and Technology), (703) 695-1683.

Kevin Dietrick,
Executive Secretary, Army Science Board.

[FR Doc. 01-24785 Filed 10-3-01; 8:45 am]

BILLING CODE 3710-08-M